DEPARTMENT OF LABOR

Office of the Secretary

Submission for OMB Review; Comment Request

January 13, 2000.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation for BLS, ETA, PWBA, and OASAM contact Karin Kurz ((202) 219-5096, ext. 159, or by E-mail to Kurz-karin@dol.gov). To obtain documentation for ESA, MSHA, OSHA, and VETS contact Darrin King ((202) 219-5096, ext. 151, or by e-mail to King-Darrin@dol.gov).

Comments should be sent to Office of Information and Regulatory Affairs, Attn: OMB Desk Officer for BLS, DM, ESA, ETA, MSHA, OSHA, PWBA, or VETS, Office of Management and Budget, Room 10235, Washington, DC 20503 ((202) 395-7316), within 30 days from the date of this publication in the Federal Register.

The OMB is particularly interested in comments which:

• evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submission of responses.

Agency: Bureau of Labor Statistics.

Title: Job Openings and Labor Turnover Survey (JOLTS).

OMB Number: 1220-0 New.

Frequency: Monthly.

Affected Public: Business and other for-profit. Not-for-profit institutions; Federal Government; State, Local, or Tribal Government.

Number of Respondents: 16,000 (full survey year). To begin collection, respondents will be added 1,000 per month until the full sample is reached.

Estimated Time Per Respondent: 56 Minutes (Estimate).

Total Burden Hours: 14,859 (Calendar Year Average).

Total Annualized Capital/Startup Costs: $0.

Total Annual Costs (Operating/Maintaining Systems or Purchasing Services): $0.

Description: The Job Openings and Labor Turnover Survey (JOLTS) will collect data on job vacancies, labor hires, and labor separations. The data can be used as demand-side indicators of labor shortages. These indicators of labor shortages at the national level would greatly enhance policy makers' understanding of imbalances between the demand and supply of labor. Presently there is no economic indicator of the demand for labor with which to assess the presence of labor shortages in the U.S. labor market. The availability of unfilled jobs—the number of job vacancies or the vacancy rate—is an important measure of tightness of job markets, parallel to existing measures of unemployment.

Type of Review: Revision.

Agency; Employment and Training Administration.

Title: Claims and Payment Activities.

OMB Number: 1205-0010.

Affected Public: State, Local, or Tribal Government

Form | Number of respondents | Frequency | Total number of responses | Average time per response (hours) | Total burden (hours)
Regular | 53 | Monthly | 636 | 2 | 1,272
EB | 2 | Bimonthly | 12 | 1.75 | 21
STC | 11 | Bimonthly | 66 | 1 | 66
Total | 53 |  | 714 | 1.9 | 1,359

Total Annualized Capital/Startup Costs: $0

Total Annual Costs (Operating/Maintaining Systems or Purchasing Services): $0

Description: Data measures workload and provides quantitative measurement for budget estimates, administrative planning, and program evaluation. This is a major vehicle for accounting to the public.

Ira L. Mills,
Departmental Clearance Officer.

[FR Doc. 00-1392 Filed 1-19-00; 8:45 am]

BILLING CODE 4510-24-M